Title 3—

The President

Executive Order 13353 of August 27, 2004

Establishing the President's Board on Safeguarding

Americans' Civil Liberties

By the authority vested in me as President by the Constitution and the laws of the United States of America, and in order to further strengthen protections for the rights of Americans in the effective performance of national security and homeland security functions, it is hereby ordered as follows:

Section 1. Policy. The United States Government has a solemn obligation, and shall continue fully, to protect the legal rights of all Americans, including freedoms, civil liberties, and information privacy guaranteed by Federal law, in the effective performance of national security and homeland security functions.

Sec. 2. Establishment of Board. To advance the policy set forth in section 1 of this order (Policy), there is hereby established the President's Board on Safeguarding Americans' Civil Liberties (Board). The Board shall be part of the Department of Justice for administrative purposes.

Sec. 3. Functions. The Board shall:

(a)

(i) advise the President on effective means to implement the Policy, and (ii) keep the President informed of the implementation of the Policy;

(b)

periodically request reports from Federal departments and agencies relating to policies and procedures that ensure implementation of the Policy;

(c)

recommend to the President policies, guidelines and other administrative actions, technologies, and legislation, as necessary to implement the Policy;

(d)

at the request of the head of any Federal department or agency, unless the Chair, after consultation with the Vice Chair, declines the request, promptly review and provide advice on a policy or action of that department or agency that implicates the Policy;

(e)

obtain information and advice relating to the Policy from representatives of entities or individuals outside the executive branch of the Federal Government in a manner that seeks their individual advice and does not involve collective judgment or consensus advice or deliberation;

(f)

refer, consistent with section 535 of title 28, United States Code, credible information pertaining to possible violations of law relating to the Policy by any Federal employee or official to the appropriate office for prompt investigation;

(g)

take steps to enhance cooperation and coordination among Federal departments and agencies in the implementation of the Policy, including but not limited to working with the Director of the Office of Management and Budget and other officers of the United States to review and assist in the coordination of guidelines and policies concerning national security and homeland security efforts, such as information collection and sharing; and

(h)

undertake other efforts to protect the legal rights of all Americans, including freedoms, civil liberties, and information privacy guaranteed by Federal law, as the President may direct.

Upon the recommendation of the Board, the Attorney General or the Secretary of Homeland Security may establish one or more committees that include individuals from outside the executive branch of the Federal Government, in accordance with applicable law, to advise the Board on specific issues relating to the Policy. Any such committee shall carry out its functions separately from the Board.

Sec. 4. Membership and Operation. The Board shall consist exclusively of the following:

(a)

the Deputy Attorney General, who shall serve as Chair;

(b)

the Under Secretary for Border and Transportation Security, Department of Homeland Security, who shall serve as Vice Chair;

(c)

the Assistant Attorney General (Civil Rights Division);

(d)

the Assistant Attorney General (Office of Legal Policy);

(e)

the Counsel for Intelligence Policy, Department of Justice;

(f)

the Chair of the Privacy Council, Federal Bureau of Investigation;

(g)

the Assistant Secretary for Information Analysis, Department of Homeland Security;

(h)

the Assistant Secretary (Policy), Directorate of Border and Transportation Security, Department of Homeland Security;

(i)

the Officer for Civil Rights and Civil Liberties, Department of Homeland Security;

(j)

the Privacy Officer, Department of Homeland Security;

(k)

the Under Secretary for Enforcement, Department of the Treasury;

(l)

the Assistant Secretary (Terrorist Financing), Department of the Treasury;

(m)

the General Counsel, Office of Management and Budget;

(n)

the Deputy Director of Central Intelligence for Community Management;

(o)

the General Counsel, Central Intelligence Agency;

(p)

the General Counsel, National Security Agency;

(q)

the Under Secretary of Defense for Intelligence;

(r)

the General Counsel of the Department of Defense;

(s)

the Legal Adviser, Department of State;

(t)

the Director, Terrorist Threat Integration Center; and

(u)

such other officers of the United States as the Deputy Attorney General may from time to time designate.

A member of the Board may designate, to perform the Board or Board subgroup functions of the member, any person who is part of such member's department or agency and who is either (i) an officer of the United States appointed by the President, or (ii) a member of the Senior Executive Service or the Senior Intelligence Service. The Chair, after consultation with the Vice Chair, shall convene and preside at meetings of the Board, determine its agenda, direct its work, and, as appropriate to deal with particular subject matters, establish and direct subgroups of the Board that shall consist exclusively of members of the Board. The Chair may invite, in his discretion, officers or employees of other departments or agencies to participate in the work of the Board. The Chair shall convene the first meeting of the Board within 20 days after the date of this order and shall thereafter convene meetings of the Board at such times as the Chair, after consultation with the Vice Chair, deems appropriate. The Deputy Attorney General shall designate an official of the Department of Justice to serve as the Executive Director of the Board.

Sec. 5. Cooperation. To the extent permitted by law, all Federal departments and agencies shall cooperate with the Board and provide the Board with such information, support, and assistance as the Board, through the Chair, may request.

Sec. 6. Administration. Consistent with applicable law and subject to the availability of appropriations, the Department of Justice shall provide the funding and administrative support for the Board necessary to implement this order.

Sec. 7. General Provisions. (a) This order shall not be construed to impair or otherwise affect the authorities of any department, agency, instrumentality, officer, or employee of the United States under applicable law, including the functions of the Director of the Office of Management and Budget relating to budget, administrative, or legislative proposals.

(b) This order shall be implemented in a manner consistent with applicable laws and Executive Orders concerning protection of information, including those for the protection of intelligence sources and methods, law enforcement information, and classified national security information, and the Privacy Act of 1974, as amended (5 U.S.C. 552a).

(c) This order is intended only to improve the internal management of the Federal Government and is not intended to, and does not, create any right or benefit, substantive or procedural, enforceable at law or in equity, by a party against the United States, or any of its departments, agencies, instrumentalities, entities, officers, employees, or agents, or any other person.

B

THE WHITE HOUSE,

August 27, 2004.

[FR Doc. 04-20049

Filed 8-31-04; 8:45 am]

Billing code 3195-01-P